DEPARTMENT OF AGRICULTURE

Food Safety and Inspection Service

[Docket No. 02-035C]

Codex Alimentarius: Meeting of the Codex Committee on Food Import and Export Inspection and Certification Systems

AGENCY: Food Safety and Inspection Service, USDA.

ACTION: Notice; correction.

SUMMARY: The Food Safety and Inspection Service published a document in the Federal Register on October 2, 2002, in FR Doc. Number 02-24978 on page 61847, concerning announcement of public meetings. The document contained an incorrect date.

The date for the second public meeting was incorrect. The DATES caption should be corrected to read:

“DATES: The public meetings are scheduled for Tuesday, October 22, 2002 from 1 p.m. to 4 p.m. and Tuesday, November 19, 2002 from 1 p.m. to 3 p.m.”

Done at Washington, DC on October 29, 2002.
F. Edward Scarbrough,
U.S. Manager for Codex Alimentarious.

[FR Doc. 02-27848 Filed 11-1-02; 8:45 am]

BILLING CODE 3410-DM-P